DEPARTMENT OF TRANSPORTATION

Federal Aviation Administration

Public Meeting on Future Policy and Rulemaking for Normal, Utility, Acrobatic, and Commuter Category Small Airplanes

AGENCY: Federal Aviation Administration (FAA), DOT.

ACTION: Notice of public meeting.

SUMMARY: The FAA Small Airplane Directorate is issuing this notice to advise the public of a meeting to discuss ideas for future policy and rulemaking for small airplanes. We are attempting to determine the adequacy of the current airworthiness standards thoughout a small airplane's service life while anticipating future requirements. The outcome could affect the next 20 years of small airplane design, certification, and operations.

DATES: The meeting will be held June 8-9, 2010, from 8 a.m. to 5 p.m. each day.

ADDRESSES: The meeting will be held at the Hilton Garden Inn Scottsdale North/Perimeter Center; 8550 East Princess Drive; Scottsdale, AZ 85255; phone number 480-515-4944.

FOR FURTHER INFORMATION CONTACT: Mr. Lowell Foster, Regulations and Policy, ACE-111, Federal Aviation Administration, 901 Locust St., Kansas City, MO 64106; telephone: (816) 329-4125; facsimile (816) 329-4090; e-mail: lowell.foster@faa.gov.

SUPPLEMENTARY INFORMATION: Notice is hereby given of a public meeting to review 14 CFR part 23 regulations. We encourage the public's participation and feedback in developing or amending new and existing policy, guidance, and rulemaking. Specifically, we would like feedback from manufacturers, pilots, owners, mechanics, instructors and anyone else with an interest in the small airplane industry.

The Small Airplane Directorate is responsible for 14 CFR part 23, the design standard for small airplanes. 14 CFR part 23 contains the design standards for small airplanes in the normal, utility, acrobatic, and commuter categories, with a maximum gross weight of 19,000 pounds.

The FAA's Small Airplane Directorate plans to host this second meeting to review the part 23 requirements June 8-9, 2010. The meeting will not follow a fixed agenda, but the discussions will generally follow the findings from a recent two-year study. That study, the “Part 23 Small Airplane Certification Process Study,” addressed the following areas:

• Structure and Process of Part 23

• Design Certification

• Continued Airworthiness

• Data Management

• Pilot Interface

The report is available on-line at: http://www.faa.gov/about/office_org/headquarters_offices/avs/offices/air/directorates_field/small_airplanes/.

Included in the study are recommendations associated with certification, maintenance, modifications, and pilot training. Also included in the report is the recommendation to revise part 23 such that requirements are based on airplane performance and complexity. Since the beginning, small airplane certification requirements have been based on propulsion and weight. Many previous assumptions for small airplanes are no longer accurate. This is discussed in detail in the Certification Process Report.

The FAA plans to open this meeting with a detailed presentation from the Certification Process Study findings followed by opening the floor for discussions. There will be an official recorder participating at the meeting. The meeting minutes, as well as any comments, feedback, recommendations or action items will become public record.

Attendance is open to the interested public but limited to space availability. Since seating is limited, we ask anyone interested in attending to RSVP (notify) Lowell Foster at the phone or e-mail address listed in the For Further Information Contact section.

Issued in Kansas City, Missouri, on May 3, 2010.
Wes Ryan,
Acting Manager, Small Airplane Directorate, Aircraft Certification Service.

[FR Doc. 2010-11080 Filed 5-10-10; 8:45 am]

BILLING CODE 4910-13-P